DEPARTMENT OF TRANSPORTATION

Federal Aviation Administration

[Summary Notice No. PE-2001-30]

Petitions for Exemption, Summary of Petitions Received; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received, and corrections. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to §§ 11.85 and 11.91.

Issued in Washington, DC, on March 16, 2001.
Donald P. Byrne,
Assistant Chief Counsel for Regulations.

Dispositions of Petitions

Docket No.: 29893.

Petitioner: The Boeing Company.

Section of the 14 CFR Affected: 14 CFR § 25.335(e)(3).

Description of Relief Sought/Disposition: To allow Boeing (1) design flap speeds, VF, to be calculated based on a power-on stall speed with the critical engine inoperative and the operative engines at the power setting appropriate for the flight condition, and (2) design flap speed, VF, to be calculated using a multiplying factor of 1.6 (rather than 1.8) applied to the power-on stall speed, for the full flap configuration of the airplane only. Grant, 03/27/2001, Exemption No. 7476

Docket No.: FAA-2001-9032 (formerly Docket No. 28787).

Petitioner: Ameriflight, Inc.

Section of the 14 CFR Affected: 14 CFR §§ 61.3(a) and (c), 91.203(a) and (b), 121.153(a)(1) and 121.383(a)(2)

Description of Relief Sought/Disposition: To permit Ameriflight, Inc. to operate temporarily its airplanes under parts 121 and 135 without (1) those aircraft's airworthiness and registration certificates onboard (and properly displayed in the case of airworthiness certificates) while obtaining replacements, and (2) without the affected pilots having their pilot and medical certificates in their personal possession. Grant, 03/30/2001, Exemption No. 7143A

Docket No.: FAA-2000-8436 (formerly Docket No. 10633).

Petitioner: FAA Technical Center.

Section of the 14 CFR Affected: 14 CFR §§ 91.117(a), 91.119(c) 91.159(a), and 91.303(e)

Description of Relief Sought/Disposition: To permit the FAA Technical Center to conduct flight operations in support of its research and development projects without meeting certain FAA Regulations governing aircraft speed, minimum safe altitudes, cruising altitudes for flights conducted under visual flight rules, and aerobatic flight. Grant, 04/03/2001, Exemption No. 6883A

[FR Doc. 01-9604 Filed 4-17-01; 8:45 am]

BILLING CODE 4910-13-M